DEPARTMENT OF ENERGY

Federal Energy Regulatory Commission

Combined Notice of Filings #1

Take notice that the Commission received the following exempt wholesale generator filings:

Docket Numbers: EG16-100-000.

Applicants: Chisholm View Wind Project II, LLC.

Description: Notice of Self-Certification of Chisholm View Wind Project II, LLC.

Filed Date: 5/16/16.

Accession Number: 20160516-5323.

Comments Due: 5 p.m. ET 6/6/16.

Docket Numbers: EG16-101-000.

Applicants: Drift Sand Wind Project, LLC.

Description: Notice of Self-Certification of Drift Sand Wind Project, LLC.

Filed Date: 5/16/16.

Accession Number: 20160516-5393.

Comments Due: 5 p.m. ET 6/6/16.

Take notice that the Commission received the following electric rate filings:

Docket Numbers: ER10-1906-007; ER11-2192-009; ER10-1971-027; ER11-4462-018.

Applicants: FPL Energy New Mexico Wind, LLC, Red Mesa Wind, LLC, NextEra Energy Power Marketing, LLC, NEPM II, LLC.

Description: Notice of Change in Status of the NextEra Companies, et al.

Filed Date: 5/16/16.

Accession Number: 20160516-5405.

Comments Due: 5 p.m. ET 6/6/16.

Docket Numbers: ER11-2724-004.

Applicants: Black Hills Colorado IPP, LLC.

Description: Notice of Change in Status of Black Hills Colorado IPP, LLC.

Filed Date: 5/16/16.

Accession Number: 20160516-5404.

Comments Due: 5 p.m. ET 6/6/16.

Docket Numbers: ER16-1398-002.

Applicants: Provision Power & Gas, LLC.

Description: Supplement to May 10, 2016 Provision Power & Gas, LLC tariff filing.

Filed Date: 5/10/16.

Accession Number: 20160510-5110.

Comments Due: 5 p.m. ET 5/31/16.

Docket Numbers: ER16-1714-000.

Applicants: BTG Pactual Commodities (US) LLC.

Description: § 205(d) Rate Filing: Notice of Succession to be effective 5/16/2016.

Filed Date: 5/16/16.

Accession Number: 20160516-5340.

Comments Due: 5 p.m. ET 6/6/16.

Docket Numbers: ER16-1715-000.

Applicants: Southwest Power Pool, Inc.

Description: § 205(d) Rate Filing: 3163 Basin Electric and MidAmerican Energy Attachment AO to be effective 10/1/2015.

Filed Date: 5/16/16.

Accession Number: 20160516-5341.

Comments Due: 5 p.m. ET 6/6/16.

Docket Numbers: ER16-1716-000.

Applicants: Michigan Electric Transmission Company, LLC.

Description: § 205(d) Rate Filing: Filing of a Certificate of Concurrence to be effective 5/5/2016.

Filed Date: 5/16/16.

Accession Number: 20160516-5358.

Comments Due: 5 p.m. ET 6/6/16.

Docket Numbers: ER16-1717-000.

Applicants: Midcontinent Independent System Operator, Inc., Entergy Services, Inc.

Description: § 205(d) Rate Filing: 2016-05-17_RS 38 Cancellation of RS 38 EGSL-ENOI Amended JPZ Agreement to be effective 8/31/2016.

Filed Date: 5/17/16.

Accession Number: 20160517-5065.

Comments Due: 5 p.m. ET 6/7/16.

Docket Numbers: ER16-1718-000.

Applicants: Tesoro Refining & Marketing Company LLC.

Description: Market-Based Triennial Review Filing: Tesoro Refinings Triennial Review Filing to be effective N/A.

Filed Date: 7/18/16.

Accession Number: 20160517-5071.

Comments Due: 5 p.m. ET 6/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2016.
Nathaniel J. Davis, Sr.,
Deputy Secretary.

[FR Doc. 2016-12045 Filed 5-20-16; 8:45 am]

BILLING CODE 6717-01-P